DEPARTMENT OF HEALTH AND HUMAN SERVICES

National Institutes of Health

Submission for OMB Review; Comment Request; Field Test of the Discovering the Science of Alcohol Curriculum

SUMMARY: Under the provisions of Section 3507(a)(1)(D) of the Paperwork Reduction Act of 1995, the National Institute on Alcohol Abuse and Alcoholism (NIAAA), the National Institutes of Health (NIH) has submitted to the Office of Management and Budget (OMB) a request to review and approve the information collection listed below. This proposed information collection was previously published in the Federal Register on August 15, 2005, page 47840 and allowed 60 days for public comment. One public comment was received from the New York State Office of Alcoholism and Substance Abuse Services (OASAS) and was responded to on August 31, 2005. The purpose of this notice is to allow an additional 30 days for public comment. The National Institutes of Health may not conduct or sponsor, and the respondent is not required to respond to, an information collection that has been extended, revised, or implemented on or after October 1, 1995, unless it displays a currently valid OMB control number.

Proposed Collection

Title: Field Test of the Discovering the Science of Alcohol Curriculum.

Type of Information Collection Request: New.

Need and Use of Information Collection: The Discovering the Science of Alcohol curriculum (DSA) was developed with a Phase II SBIR grant to bring accurate, research-based information to high school students in biology and science classrooms. The curriculum includes standards-based content objectives and assessment activities. Curriculum materials include a teacher's guide and Web site. The field test is necessary to estimate the DSA curriculum's effectiveness in conveying information to students and teachers.

Specifically, the field study is designed to enable NIAAA to determine whether teachers and students who complete the DSA curriculum demonstrate significantly greater knowledge of the topics covered in the curriculum than teachers and students who do not use the DSA curriculum. In addition, the study is designed to enable NIAAA to determine whether the students who are exposed to the curriculum components self-report different beliefs, attitudes, and intentions regarding alcohol use than their counterparts who are not exposed to the curriculum at their schools.

Participating in this field test will be an experimental group of 30 high school biology classrooms with a total of approximately 400 to 500 students and a control group of 30 high school biology classrooms with approximately 400 to 500 students. Teachers and students from grades 9, 10, 11, and 12 will comprise both groups. The field test will include two surveys: (1) An online, computerized survey that measures teachers' knowledge of the DSA curriculum components and teacher satisfaction with the DSA curriculum components. (2) For students, an anonymous, online, computerized survey that measures three factors: (a) Student knowledge of the DSA components, (b) student attitudes, beliefs, and intentions, and (c) student satisfaction with the DSA curriculum components.

Frequency of response: Once per respondent.

Affected Public: Individuals.

Type of Respondents: Biology/Science teachers and high school students.

The reporting burden is as follows: Estimated Number of Respondents: It is estimated that we will be able to recruit approximately 60 teachers and approximately 1000 students.

Estimated Number of Responses per Respondent: One Response per respondent.

Average Burden Hours per Response: 15 minutes per individual in the control group and 30 minutes per individual in the experimental group, for a total respondent burden of 662.5 hours.

Estimated Costs to Respondents: Assuming an hourly rate of $22 for teachers, we estimate the total costs to be $825. There are no Capital Costs to report. There are no Operating or Maintenance costs to report.

Table 1.—Total Respondents and Burden
Instrument | Number of respondents | Hours per respondent | Hourly rate | Total hour burden | Estimated monetary cost of burden
Experimental Group:
Teacher content knowledge instrument & curriculum satisfaction survey | 30 | 0.75 | $22 | 22.5 | $495
Student survey (knowledge, attitudes and intentions) & curriculum satisfaction survey | 500 | 0.75 | 0 | 375 | 0
Control Group:
Teacher content knowledge instrument | 30 | 0.50 | 22 | 15 | 330
Student survey (knowledge, attitudes and intentions) | 500 | 0.50 | 0 | 250 | 0
Total | 1060 | — | — | 662.5 | $825

Request for comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other form of information technology.

Direct Comments to OMB: Written comments and/or suggestions regarding the items(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Jason I. Lazarow, NIH/NIAAA/ORTC/HSEB, 5635 Fishers Lane, Room 3101, MSC 9304, Bethesda, MD 20892-9304, or e-mail your request to: jlazarow@mail.nih.gov. Mr. Lazarow can be contacted by telephone at 301-435-8043.

Comments Due Date: Comments regarding this information collection are best assured of having their full effect if received within 30 days of the date of this publication.

Dated: January 5, 2005.
Stephen Long,
Executive Officer, NIAAA.

[FR Doc. 06-490 Filed 1-18-06; 8:45 am]

BILLING CODE 4140-01-M